DEPARTMENT OF HEALTH AND HUMAN SERVICES

National Institutes of Health

National Center for Complementary & Integrative Health; Amended Notice of Meeting

Notice is hereby given of a change in the meeting of the National Advisory Council for Complementary and Integrative Health, Closed Session, June 05, 2020, 08:30 a.m. to 9:45 a.m. and Open Session, June 05, 2020, 10:00 a.m. to 04:00 p.m., National Institute of General Medical Sciences, Natcher Bldg., E1/E2, 45 Center Drive, Bethesda, MD 20892 which was published in the Federal Register on January 22, 2020, 85 FR 14, page 3707.

This notice is being amended to change the time for the Closed Session to June 05, 2020, 08:30 a.m. to 10:00 a.m. and the time for the Open Session to June 05, 2020, 10:15 a.m. to 03:30 p.m., and to change the meeting location from the NIH Natcher Bldg., Bethesda, MD to a virtual meeting. The home page for the National Center for Complementary and Integrative Health is: https://nccih.nih.gov/about/naccih, where an agenda, NIH Videocast service, and any additional information for the meeting will be posted when available. Any member of the public may submit written comments no later than 15 days after the meeting. The meeting is partially closed to the public.

Dated: April 2, 2020.
Ronald J. Livingston, Jr.,
Program Analyst,Office of Federal Advisory Committee Policy.

[FR Doc. 2020-07326 Filed 4-7-20; 8:45 am]

BILLING CODE 4140-01-P